DEPARTMENT OF AGRICULTURE

Rural Utilities Service

Brazos Electric Power Cooperative, Inc.; Notice of Availability of a Finding of No Significant Impact

AGENCY: Rural Utilities Service, USDA.

ACTION: Notice of availability of a finding of no significant impact.

SUMMARY: Notice is hereby given that the Rural Utilities Service (RUS) has made a finding of no significant impact in connection with possible impacts related to the construction and operation of a 500 megawatt combined-cycle combustion turbine generation facility proposed by Brazos Electric Power Cooperative (Brazos), of Waco, Texas.

FOR FURTHER INFORMATION CONTACT: Dennis E. Rankin, Environmental Protection Specialist, RUS, Engineering and Environmental Staff, Stop 1571, 1400 Independence Avenue, SW., Washington, DC 20250-1571, telephone: (202) 720-1953 or e-mail: dennis.rankin@usda.gov.

SUPPLEMENTARY INFORMATION: Brazos is proposing to construct a 500 MW gas-fired combined-cycle electric generation station near Joplin in Jack County, Texas. The project will consist of two combustion turbines and heat recovery steam generators and one steam turbine with a water-cooled steam surface condenser. Associated facilities include the construction of a gas pipeline, water and wastewater pipelines and a 138 kV electric transmission line. Some other transmission facilities in the area will be upgraded. RUS may provide financing assistance for this project.

Based on its environmental and engineering assessment of the project, RUS has concluded that the construction and operation of the proposed facilities would have no significant impact to the quality of the human environment. Therefore, RUS will not prepare an environmental impact statement for its action related to this project.

Copies of the FONSI are available for review at, or can be obtained from, RUS at the address provided herein.

Dated: October 28, 2003.
Blaine D. Stockton,
Assistant Administrator, Electric Program, Rural Utilities Service.

[FR Doc. 03-27473 Filed 10-30-03; 8:45 am]

BILLING CODE 3410-15-U